DEPARTMENT OF HEALTH AND HUMAN SERVICES

Office of the Secretary

Findings of Scientific Misconduct

AGENCY: Office of the Secretary, HHS.

ACTION: Notice.

SUMMARY: Notice is hereby given that the Office of Research Integrity (ORI) and the Assistant Secretary for Health have taken final action in the following case:

Roxana Gonzalez, Carnegie Mellon University: Based on reports submitted by Carnegie Mellon University's (CMU) inquiry and investigation committees, the Respondent's own admission in sworn testimony, and additional analysis conducted by the Office of Research Integrity (ORI) during its oversight review, the U.S. Public Health Service (PHS) found that Roxana Gonzalez, graduate student, Department of Social and Decision Sciences and Psychology, CMU, engaged in scientific misconduct in research supported by National Institute of Mental Health (NIMH), National Institutes of Health (NIH), grants R01 MH56880, R03 MH62376, and R24 MH67346.

Specifically, PHS found that Ms. Gonzalez engaged in the following acts of scientific misconduct:

1. Respondent altered the main dependent variable (life events; life expectation) in the electronic file and the manipulation check variables for ease-of-thought generation so that the reported study results are largely unsupported in:

(a) Publication: Lerner, J.S., & Gonzalez, R.M. “Forecasting one's future based on fleeting subjective experiences.” Personality and Social Psychology Bulletin 31:454-466, 2005;

(b) 2005 Manuscript: Lerner, J. S., & Gonzalez, R. M. “On perceiving the self as triumphant when happy or angry”;

(c) Review Article: Lerner J. S., Tiedens, L.Z., & Gonzalez, R. M. “Portrait of the angry decision maker: How appraisal tendencies shape anger's influence on cognition.” Journal of Behavioral Decision Making: Special Issue on Emotion and Decision Making.

2. Respondent falsified cortisol values, and possibly cardiovascular measures and optimistic appraisals (as measured by LOT), so that a large portion of the mediation analyses of Table 3 does not reflect the data actually collected and analyzed for the study reported in a publication (Lerner, J.S., Gonzalez, R.M., Dahl, R.E., Hariri, A.R., & Taylor, S.E. “Facial expressions of emotion reveal neuroendocrine and cardiovascular stress responses.” Biological Psychiatry 58:743-750, 2005). Respondent further allowed one of her collaborators to report the results from this study at the Annual Meeting of the American Psychological Society held in Los Angeles, California in May 2005, although Respondent's collaborator did not know at the time that the results were tainted by Respondent's acts of research misconduct.

3. Respondent falsified the analyses based on participants' responses to the manipulation check items (including the data for self reported fear) in a study reported in a publication (Fischhoff, B., Gonzalez, R.M., Lerner, J.S., & Small, D.A. “Evolving judgments of terrorism's risks: Foresight, hindsight, and emotion.” Journal of Experimental Psychology: Applied 11:124-139, 2005.

4. Respondent falsified the main dependent variable (reservation price, BDM) in the electronic file for 48 of the 175 subjects participating in a study reported in a 2005 manuscript (Lerner, J.S., Gonzalez, R.M., Small, D.A., Lowenstein, G., & Dahl, R.E. “Emotional influence on economic behavior among adolescents.”). Respondent directed the alteration of the paper files for those subjects in order to match the altered electronic file. One of Respondent's collaborators included a qualitative description of the results of the research that is the subject of this study in an NIH grant application, although Respondent's collaborator did not know at the time that the results were tainted by the Respondent's acts of research misconduct.

ORI acknowledges Ms. Gonzalez' extensive cooperation with CMU's research misconduct proceedings.

Ms. Gonzalez has entered into a Voluntary Exclusion Agreement (Agreement) in which she has voluntarily agreed, beginning on June 26, 2008:

(1) To exclude herself from serving in any advisory capacity to PHS, including but not limited to service on any PHS advisory committee, board, and/or peer review committee, or as a consultant or contractor to PHS, for a period of three (3) years;

(2) That for a period of three (3) years, any institution that submits an application for PHS support for a research project on which the Respondent's participation is proposed or that uses the Respondent in any capacity on PHS supported research, or that submits a report of PHS-funded research in which the Respondent is involved, must concurrently submit a plan for supervision of the Respondent's duties to the funding agency for approval; the supervisory plan must be designed to ensure the scientific integrity of the respondent's research contribution; Respondent agrees to ensure that a copy of the supervisory plan is also submitted to ORI by the institution; Respondent agrees that she will not participate in any PHS-supported research until such a supervisory plan is submitted to ORI;

(3) for a period of three (3) years to ensure that any institution employing her submits, in conjunction with each application for PHS funds or report, manuscript, or abstract of PHS-funded research in which the Respondent is involved, a certification that the data provided by the Respondent are based on actual experiments or are otherwise legitimately derived, and that the data, procedures, analyses, and methodology are accurately reported in the application, report, manuscript or abstract; the Respondent must ensure that the institution sends a copy of the certification to ORI; and

(4) to write ORI-approved letters to (a) collaborators/coauthors of the manuscripts and published papers cited above, stating what she falsified/fabricated and offering restitution; and (b) editors of the journals in which papers were published (even if they have been retracted/corrected) to state that her falsifications/fabrications were the underlying reason for the retraction/correction.

FOR FURTHER INFORMATION CONTACT: Director, Division of Investigative Oversight, Office of Research Integrity, 1101 Wootton Parkway, Suite 750, Rockville, MD 20852, (240) 453-8800.

Chris B. Pascal,
Director, Office of Research Integrity.

[FR Doc. E8-16741 Filed 7-21-08; 8:45 am]

BILLING CODE 4150-31-P